SMALL BUSINESS ADMINISTRATION

[Disaster Declaration #20415 and #20416; IOWA Disaster Number IA-20005]

Presidential Declaration Amendment of a Major Disaster for the State of Iowa

AGENCY: U.S. Small Business Administration.

ACTION: Amendment 6.

SUMMARY: This is an amendment of the Presidential declaration of a major disaster for the State of Iowa (FEMA-4796-DR), dated 06/24/2024.

Incident: Severe Storms, Flooding, Straight-line Winds, and Tornadoes.

Incident Period: 06/16/2024 through 07/23/2024.

DATES: Issued on 08/02/2024.

Physical Loan Application Deadline Date: 08/23/2024.

Economic Injury (EIDL) Loan Application Deadline Date: 03/24/2025.

ADDRESSES: Visit the MySBA Loan Portal at https://lending.sba.gov to apply for a disaster assistance loan.

FOR FURTHER INFORMATION CONTACT: Vanessa Morgan, Office of Disaster Recovery & Resilience, U.S. Small Business Administration, 409 3rd Street SW, Suite 6050, Washington, DC 20416, (202) 205-6734.

SUPPLEMENTARY INFORMATION: The notice of the President's major disaster declaration for the State of Iowa, dated 06/24/2024, is hereby amended to include the following areas as adversely affected by the disaster:

Primary Counties (Physical Damage and Economic Injury Loans): Monona.

Contiguous Counties (Economic Injury Loans Only):

Nebraska: Burt

All other information in the original declaration remains unchanged.

(Catalog of Federal Domestic Assistance Number 59008)

Rafaela Monchek,
Deputy Associate Administrator, Office of Disaster Recovery & Resilience.

[FR Doc. 2024-17620 Filed 8-7-24; 8:45 am]

BILLING CODE 8026-09-P